DEPARTMENT OF THE TREASURY

Office of Foreign Assets Control

31 CFR Part 525

Publication of Burma Sanctions Regulations Web General Licenses 3 and 4

AGENCY: Office of Foreign Assets Control, Treasury.

ACTION: Publication of web general licenses.

SUMMARY: The Department of the Treasury's Office of Foreign Assets Control (OFAC) is publishing two general licenses (GLs) issued pursuant to the Burma Sanctions Regulations: GLs 3 and 4, each of which was previously made available on OFAC's website.

DATES: GLs 3 and 4 were issued on March 25, 2021. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On March 25, 2021, OFAC issued GLs 3 and 4 to authorize certain transactions otherwise prohibited by Executive Order (E.O.) 14014 of February 10, 2021, “Blocking Property With Respect to the Situation in Burma” (86 FR 9429, February 12, 2021). On June 1, 2021, OFAC incorporated the prohibitions of E.O. 14014 into the Burma Sanction Regulations, 31 CFR part 525. Each GL was made available on OFAC's website (https://ofac.treasury.gov) when it was issued. GL 4 is now expired. The text of these GLs is provided below.

OFFICE OF FOREIGN ASSETS CONTROL

Executive Order 14014 of February 10, 2021—Blocking Property With Respect to the Situation in Burma

GENERAL LICENSE NO. 3

Certain Transactions in Support of Nongovernmental Organizations' Activities

(a) Except as provided in paragraph (c) of this general license, all transactions and activities prohibited by Executive Order (E.O.) 14014 that are ordinarily incident and necessary to the activities described in paragraph (b) by nongovernmental organizations are authorized, including the processing and transfer of funds; payment of taxes, fees, and import duties; and purchase or receipt of permits, licenses, or public utility services.

(b) The activities referenced in paragraph (a) of this general license are as follows:

(1) Activities to support humanitarian projects to meet basic human needs in Burma, including drought and flood relief; food, nutrition, and medicine distribution; the provision of health services; assistance for vulnerable or displaced populations, including individuals with disabilities and the elderly; and environmental programs;

(2) Activities to support democracy building in Burma, including activities to support rule of law, citizen participation, government accountability and transparency, human rights and fundamental freedoms, access to information, and civil society development projects;

(3) Activities to support education in Burma, including combating illiteracy, increasing access to education, international exchanges, and assisting education reform projects;

(4) Activities to support non-commercial development projects directly benefiting the people of Burma, including preventing infectious disease and promoting maternal/child health, sustainable agriculture, and clean water assistance; and

(5) Activities to support environmental and natural resource protection in Burma, including the preservation and protection of threatened or endangered species, responsible and transparent management of natural resources, and the remediation of pollution or other environmental damage.

(c) This general license does not authorize any transactions or activities otherwise prohibited by E.O. 14014, or prohibited by any part of 31 CFR chapter V, statute, or other Executive order.

Bradley T. Smith,

Acting Director,

Office of Foreign Assets Control.

Dated: March 25, 2021

OFFICE OF FOREIGN ASSETS CONTROL

Executive Order 14014 of February 10, 2021—Blocking Property With Respect to the Situation in Burma

GENERAL LICENSE NO. 4

Authorizing the Wind Down of Transactions Involving Myanmar Economic Corporation Limited and Myanma Economic Holdings Public Company Limited

(a) Except as provided in paragraph (b) of this general license, all transactions and activities prohibited by Executive Order (E.O.) 14014 that are ordinarily incident and necessary to the wind down of transactions involving Myanmar Economic Corporation Limited (MEC), Myanma Economic Holdings Public Company Limited (MEHL), or any entity in which MEC or MEHL owns, whether individually or in the aggregate, directly or indirectly, a 50 percent or greater interest are authorized through 12:01 a.m. eastern daylight time, June 22, 2021.

(b) This general license does not authorize any transactions or activities otherwise prohibited by E.O. 14014, or prohibited by any part of 31 CFR chapter V, statute, or other Executive order, or involving any blocked persons other than the blocked persons identified in paragraph (a) of this general license.

Bradley T. Smith,

Acting Director,

Office of Foreign Assets Control.

Dated: March 25, 2021

Bradley T. Smith,
Director, Office of Foreign Assets Control.

[FR Doc. 2023-27693 Filed 12-18-23; 8:45 am]

BILLING CODE 4810-AL-P